DEPARTMENT OF COMMERCE

National Oceanic and Atmospheric Adminsitration

50 CFR Part 229

[Docket No. 080721862-8864-01]

RIN 0648-AW51

Taking of Marine Mammals Incidental to Commercial Fishing Operations; Harbor Porpoise Take Reduction Plan Regulations

Correction

In proposed rule document E9-17190 beginning on page 36058 in the issue of Tuesday, July 21, 2009, make the following correction:

On page 36064, in the third column, before the heading Scientific Research, Figure 1, Figure 2, and Figure 3 were inadvertently deleted. The three figures are printed to read as set forth below:

[FR Doc. Z9-17190 Filed 8-7-09; 8:45 am]

BILLING CODE 1505-01-D